OFFICE OF MANAGEMENT AND BUDGET

Initial Proposals for Updating OMB's Race and Ethnicity Statistical Standards—Extension of Public Comment Period

AGENCY: Office of Information and Regulatory Affairs, Office of Management and Budget, Executive Office of the President.

ACTION: Notice of extension of public comment period.

SUMMARY: On January 27, 2023, the Office of Management and Budget (OMB) published a notice and request for comments entitled “Initial Proposals for Updating OMB's Race and Ethnicity Statistical Standards.” OMB is extending the public comment period announced in that notice, which currently closes on April 12, 2023, by 15 days. The comment period will now remain open until April 27, 2023, to allow additional time for the public to review and comment on the initial proposals.

DATES: With the extension provided by this notice, comments on the “Initial Proposals for Updating OMB's Race and Ethnicity Statistical Standards,” 88 FR 5375, must be provided in writing to OMB no later than April 27, 2023, to ensure consideration during the final decision-making process.

ADDRESSES: Please submit comments via https://www.regulations.gov, a Federal website that allows the public to find, review, and submit comments on documents that agencies have published in the Federal Register and that are open for comment. Simply type “OMB-2023-0001” in the Comment or Submission search box, click Go, and follow the instructions for submitting comments.

Comments submitted in response to OMB's January 27, 2023, notice are subject to the Freedom of Information Act and may be made available to the public. For this reason, please do not include any information of a confidential nature, such as sensitive personal information or proprietary information. If you submit your email address, it will be automatically captured and included as part of the comment that is placed in the public docket. Please note that responses to this public comment request containing any routine notice about the confidentiality of the communication will be treated as public comments that may be made available to the public notwithstanding the inclusion of the routine notice.

Electronic Availability: This document is available on the internet at http://www.regulations.gov.

FOR FURTHER INFORMATION CONTACT: Bob Sivinski, Chair, Interagency Technical Working Group on Race and Ethnicity Standards, New Executive Office Building, 725 17th St. NW, Washington, DC 20503, phone: 1 (202) 395-1205, email address: Statistical_Directives@omb.eop.gov.

SUPPLEMENTARY INFORMATION:

Rationale. Based on consideration of requests received from stakeholders, which are available for the public to view in the docket on www.regulations.gov for OMB's January 27, 2023 notice, OMB is extending the public comment period announced in that notice for an additional 15 days. Therefore, the public comment period will close on April 27, 2023.

Docket. OMB has established a docket for the January 27, 2023 notice under Docket ID No. OMB-2023-0001.

Instructions. You can submit comments by visiting www.regulations.gov. Type “OMB-2023-0001” in the Comment or Submission search box, click Go, and follow the instructions for submitting comments.

Richard L. Revesz,
Administrator, Office of Information and Regulatory Affairs.

[FR Doc. 2023-07617 Filed 4-7-23; 8:45 am]

BILLING CODE 3110-01-P